NATIONAL SCIENCE FOUNDATION

Committee Management; Renewals

The NSF management officials having responsibility for the 29 advisory committees listed below have determined that renewing these groups for another two years is necessary and in the public interest in connection with the performance of duties imposed upon the Director, National Science Foundation (NSF), by 42 USC 1861 et seq. This determination follows consultation with the Committee Management Secretariat, General Services Administration.

1. Special Emphasis Panel in Graduate Education (#57)

2. Special Emphasis Panel in Elementary, Secondary and Informal Education (#59)

3. Advisory Committee for Mathematical and Physical Sciences (#66)

4. Special Emphasis Panel in Engineering Education and Centers (#173)

5. Advisory Committee for Computer and Information Science and Engineering (#1115)

6. . Advisory Committee for Social, Behavioral and Economic Sciences (#1171)

7. Committee on Equal Opportunities in Science and Engineering (#1173)

8. Special Emphasis Panel in Advanced Computational Infrastructure and Research (#1185)

9. Special Emphasis Panel in Astronomical Sciences (#1186)

10. Special Emphasis Panel in Bioengineering and Environmental Systems (#1189)

11. Special Emphasis Panel in Chemical and Transport Systems (#1190)

12. Special Emphasis Panel in Chemistry (#1191)

13. Special Emphasis Panel in Computing—Communications Research (#1192)

14. Special Emphasis Panel in Experimental and Integrative Activities (#1193)

15. Special Emphasis Panel in Design, Manufacture and Industrial Innovation (#1194)

16. Special Emphasis Panel in Electrical and Communications Systems (#1196)

17. Special Emphasis Panel in Experimental Program to Stimulate Competitive Research (#1198)

18. Special Emphasis Panel in Human Resource Development (#1199)

19. Special Emphasis Panel in Information and Intelligent Systems (#1200)

30. Special Emphasis Panel in Materials Research (#1203)

21. Special Emphasis Panel in Mathematical Sciences (#1204)

22. Special Emphasis Panel in Civil and Mechanical Systems (#1205))

23. Special Emphasis Panel in Advanced Networking and Infrastructure Research (#1207)

24. Special Emphasis Panel in Physics (#1208)

25. Special Emphasis Panel in Polar Programs (#1209)

26. Special Emphasis Panel in Research, Evaluation and Communications (#1210)

27. Special Emphasis Panel in Undergraduate Education (#1214)

28. Special Emphasis Panel in Educational Systemic Reform (#1765)

29. Advisory Panel for Biomolecular Processes (#5138)

Authority for these Committees will expire on June 30, 2002, unless they are renewed. For more information, please contact Karen York, NSF, at (703) 306-1182.

Dated: June 21, 2000.
Karen J. York,
Committee Management Officer.

[FR Doc. 00-16092 Filed 6-23-00; 8:45 am]

BILLING CODE 7555-01-M